DEPARTMENT OF ENERGY

Federal Energy Regulatory Commission

[Project No. 12423-000 Idaho]

American Falls Reservoir District No. 2, Big Wood Canal Company; Notice of Availability of Environmental Assessment

July 17, 2003.

In accordance with the National Environmental Policy Act of 1969 and the Federal Energy Regulatory Commission's (Commission) regulations, 18 CFR part 380 (Order No. 486, 52 FR 47897), the Office of Energy Projects has reviewed the application for license for the Lateral 993 Hydroelectric Project and has prepared an Environmental Assessment (EA) for the project. The project is located at the juncture of the 993 Lateral and North Gooding Main Canal, Boise Meridian, 20 miles northwest of the Town of Shoshone, Lincoln County, Idaho. The initial diversion is the Milner Dam on the Snake River. The North Gooding Main Canal is part of a U.S. Bureau of Land Management (BLM) project. The project would occupy 17 acres of Federal land managed by the BLM.

The EA contains the Staff's analysis of the potential environmental impacts of the project and concludes that licensing the project, with appropriate environmental protective measures, would not constitute a major federal action that would significantly affect the quality of the human environment.

A copy of the EA is on file with the Commission and is available for public inspection. The EA is available for review at the Commission or may be viewed on the Commission's Web site at http://www.ferc.gov , using the “FERRIS” link. Enter the docket number excluding the last three digits in the docket number field to access the document. For assistance, contact FERC Online Support at FERCOnlineSupport@ferc.gov or toll-free at (866)208-3676, or for TTY, contact (202)502-8659.

For further information, contact Allison Arnold at (202) 502-6346.

Magalie R. Salas,
Secretary.

[FR Doc. 03-18774 Filed 7-22-03; 8:45 am]

BILLING CODE 6717-01-P